INTER-AMERICAN FOUNDATION

Sunshine Act Meetings

TIME AND DATE: November 14, 2016, 9:00 a.m.-2:30 p.m.

PLACE: Offices of Baker/McKenzie LLP, 815 Connecticut Avenue NW., Washington, DC 20006.

STATUS: Meeting of the Board of Directors, Open to the Public.

MATTERS TO BE CONSIDERED:

Approval of the Minutes of the May 2, 2016, Meeting of the Board of Directors

Management Report

Advisory Council Engagement

Donor Engagement Strategy

CEO Recruitment

Adjournment

CONTACT PERSON FOR MORE INFORMATION: Paul Zimmerman, General Counsel (202) 683-7118.

Paul Zimmerman,
General Counsel.

[FR Doc. 2016-27243 Filed 11-8-16; 11:15 am]

BILLING CODE 7025-01-P